DEPARTMENT OF HEALTH AND HUMAN SERVICES

Health Resources and Services Administration

Agency Information Collection Activities: Proposed Collection: Public Comment Request; Information Collection Request Title: NURSE Corps Loan Repayment Program OMB No. 0915-0140—Revision

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than January 26, 2018.

ADDRESSES: Submit your comments to paperwork@hrsa.gov or mail the HRSA Information Collection Clearance Officer, Room 14N39, 5600 Fishers Lane, Rockville, MD 20857.

FOR FURTHER INFORMATION CONTACT: To request more information on the proposed project or to obtain a copy of the data collection plans and draft instruments, email paperwork@hrsa.gov or call Lisa Wright-Solomon, the HRSA Information Collection Clearance Officer at (301) 443-1984.

SUPPLEMENTARY INFORMATION: When submitting comments or requesting information, please include the ICR title for reference.

Information Collection Request Title: NURSE Corps Loan Repayment Program OMB No. 0915-0140-Revision.

Abstract: The NURSE Corps Loan Repayment Program (NURSE Corps LRP) assists in the recruitment and retention of professional Registered Nurses (RNs) by decreasing the financial barriers associated with pursuing a nursing education. RNs in this instance include advanced practice RNs (e.g., nurse practitioners, certified registered nurse anesthetists, certified nurse-midwives, and clinical nurse specialists) dedicated to working at eligible health care facilities with a critical shortage of nurses (i.e., a Critical Shortage Facility) or working as nurse faculty in eligible, accredited schools of nursing. The NURSE Corps LRP provides loan repayment assistance to these nurses to repay a portion of their qualifying educational loans in exchange for full-time service at a public or private nonprofit Critical Shortage Facility (CSF) or in an eligible, accredited school of nursing.

Need and Proposed Use of the Information: The need and purpose of this information collection is to obtain information regarding NURSE Corps LRP applicants and participants to be used to consider an applicant for a NURSE Corps LRP contract award and to monitor a participant's compliance with the program's service requirements. Individuals must submit an application in order to participate in the program. The application asks for personal, professional, educational, and financial information required to determine the applicant's eligibility to participate in the NURSE Corps LRP. The Semi-Annual Employment Verification Form asks for personal and employment information about the participant to determine if a participant is in compliance with the program's service requirements. The Authorization to Release Employment Information Form is now a self-certification within the NURSE Corps LRP application process, with applicants clicking a box.

This revision to the clearance package will incorporate two new forms for participants: (1) The CSF Verification Form, which is used to verify transfers to critical shortage facilities not already recorded in the online portal; and (2) the NURSE Corps Nurse Faculty Employment Verification Form, which asks for personal and employment information to specifically determine if nurse faculty participants are eligible to transfer to another approved accredited school of nursing.

Likely Respondents: Professional RNs or advanced practice RNs who are interested in participating in the NURSE Corps LRP, and official representatives at their service sites.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below. The change in the Authorization to Release Employment Information Form has reduced the time necessary for applicants to complete the form from an estimated six minutes to around one minute for online applicants. This decreases the overall time burden by eliminating a form and not increasing the “average” time required to complete the NURSE Corps LRP application. Most applicants fill this form out online by checking a box, bypassing the need for the physical form.

Total Estimated Annualized Burden Hours:

The estimates of reporting burden for Applicants are as follows:

Instrument | Number of respondents | Responses/ respondents | Total responses | Hours per response | Total burden hours
NURSE Corps LRP Application * | 5,500 | 1 | 5,500 | 2.0 | 11,000
Authorization to Release Employment Information Form ** | 5,500 | 1 | 5,500 | .10 | 550
Total for Applicants | 5,500 | 1 | 11,000 | 2.10 | 11,550
* The burden hours associated with this instrument account for both new and continuation applications. Additional (uploaded) supporting documentation is included as part of this instrument and reflected in the burden hours.
** The same respondents are completing these instruments.

The estimates of reporting for Participants are as follows:

Instrument | Number of respondents | Responses/ respondents | Total responses | Hours per response | Total burden hours
Participant Semi-Annual Employment Verification Form | 2,300 | 2 | 4,600 | .5 | 2,300
NURSE Corps CSF Verification Form | 550 | 1 | 550 | .10 | 55
NURSE Corps Nurse Faculty Employment Verification Form | 250 | 1 | 250 | .20 | 50
Total for Participants | 3,100 | 4 | 5,400 | .8 | 2,405
Total for Applicants and Participants | 8,600 |  | 16,400 |  | *13,955
* The 13,955 figure is a combination of burden hours for applicants and participants. This revision adds two forms (the CSF Verification Form and NURSE Corps Nurse Faculty Employment Verification Form). Participants, not applicants, only use these forms. The 13,955 total burden hours represents the net decrease in applicant burden, and the net increase in participant burden.

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Amy McNulty,
Acting Director, Division of the Executive Secretariat.

[FR Doc. 2017-25507 Filed 11-24-17; 8:45 am]

BILLING CODE 4165-15-P